ENVIRONMENTAL PROTECTION AGENCY

[OAR-2003-0091; FRL-7577-5]

Agency Information Collection Activities; Submission to OMB for Review and Approval; Comment Request; EPA ICR Number 0783.45, OMB Control Number 2060-0104

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to amend an existing approved collection. Under OMB regulations, the Agency may continue to conduct or sponsor the collection of information while this submission is pending at OMB. This ICR describes the nature of the information collection and its estimated burden and cost.

DATES: Additional comments may be submitted on or before November 21, 2003.

ADDRESSES: Submit your comments, referencing docket ID number OAR-2003-0091 (legacy docket number A-2000-49), to (1) EPA online using EDOCKET (our preferred method), by e-mail to Holly Pugliese at pugliese.holly@epa.gov, or by mail to: EPA Docket Center, Environmental Protection Agency, Public Reading Room, Room B102, EPA West Building, 1301 Constitution Avenue, NW., Washington, DC and (2) OMB at: Office of Information and Regulatory Affairs, Office of Management and Budget (OMB), Attention: Desk Officer for EPA, 725 17th Street, NW., Washington, DC 20503.

FOR FURTHER INFORMATION CONTACT: Holly Pugliese, Certification and Compliance Division, U.S. Environmental Protection Agency, 2000 Traverwood, Ann Arbor, Michigan 48105, Telephone 734-214-4288, Internet e-mail “pugliese.holly@epa.gov.”

SUPPLEMENTARY INFORMATION: EPA has submitted the following ICR to OMB for review and approval according to the procedures prescribed in 5 CFR 1320.12. On June 8, 2001 (66 FR 30830), EPA sought comments on this ICR pursuant to 5 CFR 1320.8(d). EPA received no comments on this ICR.

EPA has established a public docket for this ICR under Docket ID No. OAR-2003-0091, which is available for public viewing at the Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air Docket is (202) 566-1472. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Vehicle Engine Service Information Amending Motor Vehicle Emission Certification and Fuel Economy Compliance.

Abstract: Under Title II of the Clean Air Act, (42 U.S.C. 7521 et seq.), EPA is charged with requiring the manufacturers of vehicles and engines to make available emissions-related repair information to aftermarket service providers. To improve timely access to this information, EPA is requiring that vehicle and engine manufacturers provide access to the required emissions-related information in full-text via the World Wide Web. To ensure compliance with these statutes, EPA is requiring that manufacturers measure the performance of their Web sites as outlined in preamble to the Final Rule making and report this information to EPA in electronic format on an annual basis. EPA will review the information to determine that the manufacturers subject to the proposed Web site requirements have developed Web sites with sufficient infrastructure to support potentially thousands of aftermarket service providers at any given time.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 100 hours per response. Burden means the total time, effort, or financial resources expended by persons to generate, maintain, retain, or disclose or provide information to or for a Federal Agency. This includes the time needed to review instructions; develop, acquire, install, and utilize technology and systems for the purposes of collection, validating, and verifying information, processing and maintaining information, and disclosing and providing information; adjust the existing ways to comply with any previously applicable instructions and requirements; train personnel to be able to respond to a collection of information; search data sources; complete and review the collection of information; and transmit or otherwise disclose the information. An agency may not conduct or sponsor, and a person is not required to respond to, a collection of information unless it displays a currently valid OMB control number. The OMB control number for EPA's regulations are listed in 40 CFR part 9 and 48 CFR chapter 15.

Respondents/Affected Entities: The respondents are motor vehicle manufacturers, SIC code 3711.

Estimated Number of Respondents: 45.

Frequency of Response: Annually.

Estimated Total Annual Hour Burden: 4,500.

Estimated Total Annual Cost: $265,500 includes $72,000 annualized capital costs.

Changes in the Estimates: There is an increase of 4500 hours in the total estimated burden currently identified in the OMB Inventory of Approved ICR Burdens. This increase is due to the fact that this is a new reporting requirement for manufacturers and the burden estimates are being revised accordingly.

Dated: October 15, 2003.
Doreen Sterling,
Acting Director, Collection Strategies Division.

[FR Doc. 03-26666 Filed 10-21-03; 8:45 am]

BILLING CODE 6560-50-P